DEPARTMENT OF HEALTH AND HUMAN SERVICES

Administration for Community Living

Intent to Award a Single-Source Supplement for the Expanding ACL Innovation Lab

AGENCY: Administration for Community Living, HHS.

ACTION: Notice.

SUMMARY: The Administration for Community Living (ACL) announces the intent to award a single-source supplement to the current cooperative agreement held by the National Council on Aging for the ACL Innovation Lab (“the Lab”) program. The purpose of the Lab is to support research, demonstration, and evaluation efforts related to falls prevention amongst older adults and older adults with disabilities.

FOR FURTHER INFORMATION CONTACT: For further information or comments regarding this program supplement, contact Shannon Skowronski, U.S. Department of Health and Human Services, Administration for Community Living, Center for Policy and Evaluation, Office of Performance and Evaluation; telephone (202) 795-7438 email shannon.skowronski@acl.hhs.gov.

SUPPLEMENTARY INFORMATION: The primary activities of the ACL Innovation Lab include:

• Developing a taxonomy for falls prevention research.

• Funding a cohort of sub-awards to community-based entities across the nation to conduct research to understand and measure the extent to which existing interventions reduce falls and risk factors.

• Developing a secure, dynamic system to house the data collected and evidence developed by sub-awardees.

• Serving as a national focal point for technical assistance that supports the delivery and scaling of effective falls prevention interventions across the aging network.

The supplement for FY 2024 will be approximately $4,441,320 and will not be used for projects or activities outside the scope of the approved award. The supplement will provide sufficient resources for:

• increasing the number and geographic reach of sub-awards to community-based entities.

• providing enhanced technical assistance, with a particular focus on individually tailored supports for sub-awardees, data collection, navigating and securing Institutional Review Board approval, and expanding dissemination.

Program Name: ACL Innovation Lab.

Recipient: The National Council on Aging.

Period of Performance: September 1, 2023 through August 31, 2026 (fully-funded).

Award Amount: Approximately $4,441,320.

Award Type: Cooperative Agreement Supplement.

Statutory Authority: Older Americans Act of 1965, sections 201 and 411, as amended through Pub. L. 116-131 (42 U.S.C. 3011, 42 U.S.C. 3032).

Basis for Award: The National Council on Aging (NCOA) is currently funded to serve as the first-ever ACL Innovation Lab (“the Lab”) for the period of September 1, 2023 through August 31, 2026. Since project implementation began in September 2023, the grantee has accomplished a great deal. This supplement will enable the grantee to carry their work even further, providing additional sub-grants and enhanced technical assistance to advance falls prevention efforts across the nation.

The NCOA is uniquely positioned to complete the work called for under this project. NCOA's primary partners on this project include Impact Genome and a Research Advisory Committee, comprised of experts in the fields of falls prevention, community-based participatory research, and related areas.

Establishing an entirely new grant project for this program would be potentially disruptive to efforts currently underway. The Lab was authorized in 2020, but not funded and established until FY2023. Work is currently underway to build a solid foundation and infrastructure for the Lab. If this supplement were not provided, this would make it difficult to build the comprehensive and dynamic infrastructure needed to advance the goals and efforts of this program for years to come. Building a parallel infrastructure this early in the process would likely result in duplication of effort. In addition, it has become evident that sub-awardee technical assistance needs will exceed initial estimates. Providing this supplement to NCOA will allow for the greater realization of Congress' intent in Titles II and IV of the Older Americans Act (OAA), which calls for the establishment of a Research, Demonstration, and Evaluation Center (“the Lab”) for the purposes of “[conducting] research, research dissemination, evaluation, demonstration projects, and related activities . . .; “[providing] assessment of the programs and interventions authorized under [the OAA]; and “[increasing the repository of information on evidence-based programs and interventions available to the aging network . . .” (Title II) and supporting “applied social research, aligned with evidence-based practice, and analysis to improve access to and delivery of services for older individuals . . .” (Title IV).

Dated: June 24, 2024.
Alison Barkoff,
Principal Deputy Administrator for the Administration for Community Living, performing the delegable duties of the Administrator and Assistant Secretary for Aging.

[FR Doc. 2024-14227 Filed 6-27-24; 8:45 am]

BILLING CODE 4154-01-P